DEPARTMENT OF ENERGY

Federal Energy Regulatory Commission

Combined Notice of Filings #1

Take notice that the Commission received the following exempt wholesale generator filings:

Docket Numbers: EG17-16-000.

Applicants: 96WI 8me LLC.

Description: Notice of Self-Certification of Exempt Wholesale Generator Status of 96WI 8me LLC.

Filed Date: 10/26/16.

Accession Number: 20161026-5183.

Comments Due: 5 p.m. ET 11/16/16.

Take notice that the Commission received the following electric rate filings:

Docket Numbers: ER12-959-000.

Applicants: Southwest Power Pool, Inc.

Description: Report Filing: Tri-County Electric Cooperative Formula Rate Second Refund Report in ER12-959 to be effective N/A.

Filed Date: 10/26/16.

Accession Number: 20161026-5118.

Comments Due: 5 p.m. ET 11/16/16.

Docket Numbers: ER16-2234-001.

Applicants: EF Kenilworth LLC.

Description: Report Filing: Refund Report to be effective N/A.

Filed Date: 10/27/16.

Accession Number: 20161027-5099.

Comments Due: 5 p.m. ET 11/17/16.

Docket Numbers: ER16-2402-000; ER16-2403-000; ER16-2404-000.

Applicants: UGI Utilities Inc.

Description: Supplement to August 11, 2016 UGI Utilities Inc., et al. Triennial Market Power Analyses, et al.

Filed Date: 10/25/16.

Accession Number: 20161025-5055.

Comments Due: 5 p.m. ET 11/15/16.

Docket Numbers: ER16-2532-001.

Applicants: Midcontinent Independent System Operator, Inc.

Description: Tariff Amendment: 2016-10-27_Amendment to filing to revise RPU Att O and Protocols to be effective 11/1/2016.

Filed Date: 10/27/16.

Accession Number: 20161027-5104.

Comments Due: 5 p.m. ET 11/17/16.

Docket Numbers: ER16-2558-001.

Applicants: Pacific Gas and Electric Company.

Description: Tariff Amendment: Errata Filing to the E&P Agreements for Alamo Springs Solar 1 and 2 to be effective 9/8/2016.

Filed Date: 10/27/16.

Accession Number: 20161027-5003.

Comments Due: 5 p.m. ET 11/17/16.

Docket Numbers: ER16-2569-001.

Applicants: The Dayton Power and Light Company.

Description: Tariff Amendment: DP&L Supplemental Filing Response to Deficiency Letter to be effective 11/8/2016.

Filed Date: 10/27/16.

Accession Number: 20161027-5089.

Comments Due: 5 p.m. ET 11/17/16.

Docket Numbers: ER16-2570-001.

Applicants: AES Ohio Generation, LLC.

Description: Tariff Amendment: AES Ohio Supplemental Filing Response to Deficiency Letter to be effective 11/8/2016.

Filed Date: 10/27/16.

Accession Number: 20161027-5095.

Comments Due: 5 p.m. ET 11/17/16.

Docket Numbers: ER17-135-001.

Applicants: DesertLink, LLC.

Description: Tariff Amendment: Amendment to 1 to be effective 12/19/2016.

Filed Date: 10/27/16.

Accession Number: 20161027-5169.

Comments Due: 5 p.m. ET 11/17/16.

Docket Numbers: ER17-190-000.

Applicants: Wisconsin Public Service Corporation.

Description: § 205(d) Rate Filing: WPS Corp and Alger Delta Agreement for Wholesale Distribution Service to be effective 1/1/2017.

Filed Date: 10/27/16.

Accession Number: 20161027-5058.

Comments Due: 5 p.m. ET 11/17/16.

Docket Numbers: ER17-191-000.

Applicants: Midcontinent Independent System Operator, Inc.

Description: § 205(d) Rate Filing: 2016-10-27_ATC Request for Updated Depreciation Rates to be effective 1/1/2017.

Filed Date: 10/27/16.

Accession Number: 20161027-5068.

Comments Due: 5 p.m. ET 11/17/16.

Docket Numbers: ER17-192-000.

Applicants: Northern Maine Independent System Administrator, Inc.

Description: § 205(d) Rate Filing: Normal Filing NMMR &#35;10 to be effective 11/1/2016.

Filed Date: 10/27/16.

Accession Number: 20161027-5088.

Comments Due: 5 p.m. ET 11/17/16.

Docket Numbers: ER17-193-000.

Applicants: Midcontinent Independent System Operator, Inc.

Description: § 205(d) Rate Filing: 2016-10-27_SA 2856 MidAmerican-MidAmerican 1st Rev GIA (J411) to be effective 10/28/2016.

Filed Date: 10/27/16.

Accession Number: 20161027-5105.

Comments Due: 5 p.m. ET 11/17/16.

Docket Numbers: ER17-194-000.

Applicants: Hartree Partners, LP.

Description: Baseline eTariff Filing: Administrative eTariff Filing to be effective 10/28/2016.

Filed Date: 10/27/16.

Accession Number: 20161027-5120.

Comments Due: 5 p.m. ET 11/17/16.

Docket Numbers: ER17-195-000.

Applicants: Midcontinent Independent System Operator, Inc.

Description: § 205(d) Rate Filing: 2016-10-27 SA 1756 METC-Consumers Energy 10th Rev. GIA (G479B) to be effective 10/1/2016.

Filed Date: 10/27/16.

Accession Number: 20161027-5121.

Comments Due: 5 p.m. ET 11/17/16.

Docket Numbers: ER17-196-000.

Applicants: Pima Energy Storage System, LLC.

Description: Baseline eTariff Filing: Pima Energy Storage System, LLC Application for Market-Based Rates to be effective 10/28/2016.

Filed Date: 10/27/16.

Accession Number: 20161027-5141.

Comments Due: 5 p.m. ET 11/17/16.

Docket Numbers: ER17-197-000.

Applicants: Midcontinent Independent System Operator, Inc.

Description: § 205(d) Rate Filing: 2016-10-27_SA 2966 ATC-Upper Michigan Energy Resources CFA to be effective 12/27/2016.

Filed Date: 10/27/16.

Accession Number: 20161027-5142.

Comments Due: 5 p.m. ET 11/17/16.

Docket Numbers: ER17-198-000.

Applicants: Midcontinent Independent System Operator, Inc.

Description: § 205(d) Rate Filing: 2016-10-27_SA 2967 ATC-Upper Michigan Energy Resources D-TIA to be effective 12/27/2016.

Filed Date: 10/27/16.

Accession Number: 20161027-5143.

Comments Due: 5 p.m. ET 11/17/16.

Docket Numbers: ER17-199-000.

Applicants: Midcontinent Independent System Operator, Inc.

Description: § 205(d) Rate Filing: 2016-10-27_SA 2968 ATC-Upper Michigan Energy Resources PSA to be effective 12/27/2016.

Filed Date: 10/27/16.

Accession Number: 20161027-5145.

Comments Due: 5 p.m. ET 11/17/16.

Docket Numbers: ER17-200-000.

Applicants: PJM Interconnection, L.L.C.

Description: § 205(d) Rate Filing: 3rd Quarter 2016 Update to OA and RAA Member Lists to be effective 9/30/2016.

Filed Date: 10/27/16.

Accession Number: 20161027-5153.

Comments Due: 5 p.m. ET 11/17/16.

Docket Numbers: ER17-201-000.

Applicants: Shell Energy North America (US), L.P.

Description: § 205(d) Rate Filing: Category 1 Seller Notice to be effective 10/28/2016.

Filed Date: 10/27/16.

Accession Number: 20161027-5158.

Comments Due: 5 p.m. ET 11/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2016.
Nathaniel J. Davis, Sr.,
Deputy Secretary.

[FR Doc. 2016-26442 Filed 11-1-16; 8:45 am]

BILLING CODE 6717-01-P